DEPARTMENT OF TRANSPORTATION

Federal Aviation Administration

[Docket No. FAA-2017-0975]

Agency Information Collection Activities: Requests for Comments; Clearance of Renewed Approval of Information Collection: Information Collection 2120-0768, Part 107 Authorizations and Waivers Under 14 CFR Part 107

AGENCY: Federal Aviation Administration (FAA), DOT.

ACTION: Notice and request for comments.

SUMMARY: In accordance with the Paperwork Reduction Act of 1995, FAA invites public comments about our intention to request the Office of Management and Budget (OMB) approval to renew an information collection. The Federal Aviation Agency is seeking approval from the Office of Management and Budget (OMB) for a renewal of the existing Information Collection 2120-0768. As required by the Paperwork Reduction Act of 1995 (PRA), the purpose of this notice is to allow 60 days for public comment.

The FAA proposes collecting information related to requests to operate Unmanned Aircraft Systems (UAS) in controlled airspace pursuant to regulations contained in the code of federal regulations. FAA will use the collected information to make determinations whether to authorize or deny the requested operation of UAS in controlled airspace. The proposed information collection is necessary to issue such authorizations or denials consistent with the FAA's mandate to ensure safe and efficient use of national airspace.

DATES: Written comments should be submitted by October 7, 2019.

ADDRESSES: Please send written comments:

By Electronic Docket: www.regulations.gov (Enter docket number into search field).

By mail: Docket Management Facility, U.S. Department of Transportation, 1200 New Jersey Avenue SE, West Building, Room W12-140, Washington, DC 20590, between 9 a.m. and 5 p.m., Monday through Friday, except on Federal holidays.

By fax: 202-493-2251.

FOR FURTHER INFORMATION CONTACT: Casey Nair, FAA's Unmanned Aircraft Systems (UAS) Low Altitude Authorization and Notification Capability (LAANC) Program Manager, by email at Casey.Nair@faa.gov; phone: 202-267-0369.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0768.

Title: Requests for Comments; Clearance of Renewed Approval of Information Collection: Information Collection 2120-0768, Part 107 Authorizations and Waivers under 14 CFR part 107.

Form Numbers: There are no forms associated with this collection.

Type of Review: Renewal of existing Information Collection.

Background: The FAA has seen increased operations of small Unmanned Aircraft Systems (UAS) flying under 14 CFR part 107. Section 107.41 states that “no person may operate a small unmanned aircraft in Class B, Class C, or Class D airspace or within the lateral boundaries of the surface area of Class E airspace designated for an airport unless that person has prior authorization from Air Traffic Control (ATC).” Such authorization may be obtained in the form of either an airspace authorization issued by the FAA or a waiver of the authorization requirements of 14 CFR 107.41 (airspace waiver). Additionally, operators may request waivers of the other operational requirements listed in § 107.205 (operational waivers).

In order to process authorization and airspace waiver requests, the FAA requires the operator's name, the operator's contact information, and information related to the date, place, and time of the requested small UAS operation. This information is necessary for the FAA to meet its statutory mandate of maintaining a safe and efficient national airspace. See 49 U.S.C. 40103 and 44701; Public Law 112-95, Section 333.

Additionally, if the operator is seeking an operational waiver from one of the other regulations listed in 14 CFR 107.205, further information is required related to the proposed waiver and any necessary mitigations. The FAA will use the requested information to determine if the proposed UAS operation can be conducted safely.

The FAA proposes to use LAANC and a web portal to process authorization requests from the public to conduct Part 107 flight operations pursuant to § 107.41. The FAA also proposes to use the web portal to process requests from the public to conduct Part 107 flight operations that require an operational waiver or an airspace waiver.

Respondents: Small UAS operators seeking to conduct flight operations under 14 CFR part 107 within controlled airspace or flight operations that require waiver from certain provisions of Part 107. Between 2020-2022, the FAA estimates that it will receive a total of 346,917 requests for airspace authorization, 27,831 requests for airspace waivers, and 9,000 requests for operational waivers.

Frequency: The requested information will need to be provided each time a respondent requests an airspace authorization to operate a small UAS under 14 CFR part 107 in controlled airspace. A respondent may reduce the frequency by seeking and obtaining an airspace waiver to conduct recurring operations. For requests for operational waivers, a respondent will need to provide the information once at the time of the request for the waiver. If granted, operational waivers may be valid for up to four (4) years.

Estimated Average Burden per Response: The FAA estimates the respondents using LAANC will take five (5) minutes per request and those using the web portal will take thirty (30) minutes per request. For those submitting requests for airspace or operational waivers through the web portal, the FAA estimates each request will take thirty (30) minutes.

Estimated Total Annual Burden: For airspace authorizations, the FAA estimates that the average annual burden will be 15,834 hours for respondents submitting requests. This includes 8,446 burden hours for 101,762 LAANC respondents and 6,938 hours for 13,877 web portal respondents. For airspace waivers, the FAA estimates that the average annual burden will be 4,639 hours for respondents. For operational waivers, the FAA estimates that the average annual burden will be 1,950 hours for respondents.

Issued in Washington, DC, on August 1, 2019.
Victoria Gallagher,
UAS LAANC Acting Program Manager.

[FR Doc. 2019-16797 Filed 8-6-19; 8:45 am]

BILLING CODE 4910-13-P